DEPARTMENT OF ENERGY

Federal Energy Regulatory Commission

[Docket No. RP01-372-000]

Columbia Gas Transmission Corporation; Notice of Proposed Changes in FERC Gas Tariff

April 10, 2001.

Take notice that on April 6, 2001, Columbia Gas Transmission Corporation (Columbia) tendered for filing as part of its FERC Gas Tariff, Second Revised Volume No. 1, Tenth Revised Sheet No. 44, with a proposed effective date of May 6, 2001.

Columbia states that the purpose of this filing is to reflect implementation of a non-discriminatory waiver of its transportation Retainage for transportation transactions using as a primary or secondary receipt point Columbia's interconnection with Algonquin Gas Transmission Company at Ramapo in Rockland County, New York, and using primary or secondary delivery points located on Columbia's lines east of its Huguenot Regulator Station, including to a new proposed point of delivery to Hudson Valley Gas Corporation.

Columbia states that copies of its filing have been mailed to all firm customers, interruptible customers, and affected state commissions.

Any person desiring to be heard or to protest said filing should file a motion to intervene or a protest with the Federal Energy Regulatory Commission, 888 First Street, N.E., Washington, D.C. 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(l)(iii) and the instructions on the Commission's web site at http://www.ferc.fed.us/efi/doorbell.htm.

David P. Boergers,
Secretary.

[FR Doc. 01-9304 Filed 4-13-01; 8:45 am]

BILLING CODE 6717-01-M